ENVIRONMENTAL PROTECTION AGENCY

[FRL-7051-2]

Public Water System Supervision Program Revision for the State of Missouri

AGENCY: Environmental Protection Agency (EPA).

ACTION: Notice of tentative approval.

SUMMARY: Notice is hereby given that the State of Missouri is revising its approved Public Water System Supervision Program. The State of Missouri has adopted drinking water regulations requiring Consumer Confidence Reporting, that correspond to federal regulations published by EPA on August 19, 1998 (63 FR 44512); Administrative Penalty authority, that correspond to federal regulations published by EPA on April 28, 1998, (63 FR 23361); and variance and exemption requirements. EPA has determined that these revisions are no less stringent than the corresponding federal regulations. Therefore, EPA intends to approve these State program revisions.

DATES: All interested parties may request a public hearing. A request for a public hearing must be submitted by October 12, 2001 to the Regional Administrator at the address shown below. Frivolous or insubstantial requests for a hearing may be denied by the Regional Administrator. However, if there is a substantial request, a public hearing will be held. If no timely and appropriate request for a hearing is received and the Regional Administrator does not elect to hold a hearing on his own motion, this determination shall become final and effective on October 12, 2001.

Any request for a public hearing shall include the following information: (1) The name, address, and telephone number of the individual organization, or other entity requesting a hearing; (2) A brief statement of the requesting person's interest in the Regional Administrator's determination and a brief statement of the information that the requesting person intends to submit at such hearing; (3) The signature of the individual making the request, or, if the request is made on behalf of an organization or other entity, the signature of a responsible official of the organization or other entity.

ADDRESSES: All documents relating to this determination are available for inspection between the hours of 8 a.m., and 4 p.m., Monday through Friday, at the following office; U.S. Environmental Protection Agency, Region 7, Drinking Water/Ground Water Management Branch, 901 N. Fifth Street, Kansas City, Kansas, 66101.

FOR FURTHER INFORMATION CONTACT: Robert Dunlevy at (913) 551-7798.

Reference: The Safe Drinking Water Act as amended (1996), and 40 CFR part 142 of the National Primary Drinking Water Regulations.

Dated: July 19, 2001.
William W. Rice,
Acting Regional Administrator, Region 7.

[FR Doc. 01-22740 Filed 9-11-01; 8:45 am]

BILLING CODE 6560-50-P